FEDERAL COMMUNICATIONS COMMISSION

47 CFR Part 73

[MB Docket Nos. 14-50, 09-182, 07-294, and 04-256; Report No. 3064]

Petitions for Reconsideration of Action in Rulemaking Proceeding

AGENCY: Federal Communications Commission.

ACTION: Petition for reconsideration; correction.

SUMMARY: The Federal Communications Commission (Commission) published a document in the Federal Register of December 30, 2016, concerning petitions for reconsideration filed in the Commission's rulemaking proceeding. The date for filing replies was incorrect. This document corrects the filing deadline date for replies to an opposition to the Petitions.

FOR FURTHER INFORMATION CONTACT: Benjamin Arden, Media Bureau, (202) 418-2605; email: Benjamin.Arden@fcc.gov.

Correction

In the Federal Register of December 30, 2016, in FR Doc. 2016-31708, on page 96415, in the second column, correct the DATES section to read:

DATES: Oppositions to the Petitions must be filed on or before January 17, 2017. Replies to an opposition must be filed on or before January 27, 2017.

Federal Communications Commission.
Marlene H. Dortch,
Secretary.

[FR Doc. 2017-00341 Filed 1-10-17; 8:45 am]

BILLING CODE 6712-01-P